DEPARTMENT OF HEALTH AND HUMAN SERVICES

Administration for Children and Families

Proposed Information Collection Activity; Comment Request

Title: National and Tribal Evaluation of the 2nd Generation of the Health Profession Opportunity Grants.

OMB No.: 0970-0462.

Description: The Administration for Children and Families (ACF), U.S. Department of Health and Human Services (HHS) is proposing data collection activities as part of the Health Profession Opportunity Grants (HPOG) to Serve TANF and Other Low Income Individuals. ACF has developed a multi-pronged research and evaluation approach for the HPOG program to better understand and assess the activities conducted and their results. Two rounds of HPOG grants have been awarded—the first in 2010 (HPOG 1.0) and the second in 2015 (HPOG 2.0). There are federal evaluations associated with each round of grants. HPOG grants provide funding to government agencies, community-based organizations, post-secondary educational institutions, and tribal-affiliated organizations to provide education and training services to Temporary Assistance for Needy Families (TANF) recipients and other low-income individuals, including tribal members. Under HPOG 2.0, ACF provided grants to five tribal-affiliated organizations and 27 non-tribal entities.

OMB previously approved data collection under OMB Control Number 0970-0462 for: The HPOG 2.0 National and Tribal Evaluation (Approved August 2015); and the National Evaluation impact study, the National Evaluation descriptive study, and the Tribal Evaluation (All approved June 2017). The proposed data collection activities described in this Federal Register Notice will provide data for the impact and cost benefit studies of the 27 non-tribal grantees participating in the National Evaluation of HPOG 2.0.

National Evaluation: The National Evaluation pertains only to the 27 non-tribal grantees that received HPOG 2.0 funding. The design for the National Evaluation features an implementation study, a systems change analysis, and cost benefit analysis. In addition, the National Evaluation is using an experimental design to measure and analyze key participant outcomes including completion of education and training, receipt of certificates and/or degrees, earnings, and employment in a healthcare career. The impact evaluation will assess the outcomes for study participants that were offered HPOG 2.0 training, financial assistance, and support services, compared to what their outcomes would have been if they had not been offered HPOG 2.0 services.

This Notice provides the opportunity to comment on a proposed new information collection activity for the HPOG 2.0 National Evaluation's impact study—the HPOG 2.0 Impact Evaluation first follow-up survey. The first follow-up survey of both treatment and control group members will be administered approximately 15 months after baseline data collection and random assignment. The survey will collect data about key outcomes of interest, including participants' tenure and experience in HPOG programming, certifications and educational achievements, job placement, and benefits. These are the key outcomes of interest for which data are not otherwise available through existing data sources. Previously approved collection activities under 0970-0462 will continue under this new request for the National Evaluation of the non-tribal grantees.

In subsequent requests for clearance, we will submit (1) additional data collection instruments to support the descriptive study of the 27 non-tribal grantees participating in the HPOG 2.0 National Evaluation, including grantee interview guides and participant interview guides; and (2) the second follow-up survey for the HPOG 2.0 National Evaluation impact study. The second follow-up survey is for collecting data from both treatment and control group members at the 27 non-tribal grantees, approximately 36 months after baseline data collection and random assignment. This submission will also include data collection necessary for the National Evaluation's cost benefit analysis.

Respondents: For the National Evaluation impact study: HPOG 2.0 study participants at the 27 non-tribal grantees.

Annual Response Burden Estimates: (This information collection request is for 3 years):

Instrument | Total number of respondents | Annual number of respondents | Number of responses per respondent | Average burden hours per response | Annual burden hours
HPOG 2.0 National Evaluation: 15-month Follow-up Survey | 10,400 | 3,467 | 1 | 1 | 3,467

In compliance with the requirement of section 3506(c)(2)(A) of the Paperwork Reduction Act of 1995, the Administration for Children and Families (ACF), Department of Health and Human Services, is soliciting public comment on the specific aspects of the information collection described above. Copies of the proposed collection of information can be obtained and comments may be forwarded in writing to the Administration for Children and Families, Office of Planning, Research and Evaluation, 330 C Street SW., Washington, DC 20201, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Reports Clearance Officer.

[FR Doc. 2017-18410 Filed 8-29-17; 8:45 am]

BILLING CODE 4184-72-P